DEPARTMENT OF ENERGY

Federal Energy Regulatory Commission

[Docket No. CP22-44-000]

Equitrans, L.P.; Notice of Availability of the Draft Environmental Impact Statement for the Proposed Ohio Valley Connector Expansion Project

The staff of the Federal Energy Regulatory Commission (FERC or Commission) has prepared a draft environmental impact statement (EIS) for the Ohio Valley Connector Expansion Project (Project), proposed by Equitrans, LP (Equitrans) in the above-referenced docket. Equitrans requests authorization to construct and operate approximately 5.5 miles of new pipeline and pipeline loop ¹; acquire and add compression to one non-jurisdictional compressor station; and add compression at two existing compression facilities in Pennsylvania, West Virginia, and Ohio to provide approximately 350,000 dekatherms per day of natural gas to mid-continent and Gulf Coast markets.

¹ A pipeline loop is a segment of pipe constructed next to an existing pipeline to increase capacity.

The draft EIS assesses the potential environmental effects of the construction and operation of the Project in accordance with the requirements of the National Environmental policy Act (NEPA). As described in the draft EIS, FERC staff concludes that approval of the proposed Project, with the mitigation measures recommended in the EIS, would not result in significant adverse impacts. Regarding climate change impacts, this EIS is not characterizing the Project's greenhouse gas emissions as significant or insignificant because the Commission is conducting a generic proceeding to determine whether and how the Commission will conclude significance going forward.² The EIS also concludes that no system, route, or other alternative would meet the Project objective while providing a significant environmental advantage over the Project as proposed.

² Consideration of Greenhouse Gas Emissions in Natural Gas Infrastructure Project Reviews, 178 FERC ¶ 61,108 (2022); 178 FERC ¶ 61,197 (2022).

The U.S. Army Corps of Engineers, Huntington District, participated as a cooperating agency in the preparation of the EIS. A cooperating agency has jurisdiction by law or special expertise with respect to resources potentially affected by the proposal and participates in the NEPA analysis. The EIS is intended to fulfill the cooperating federal agencies' NEPA obligations, as applicable, and to support subsequent conclusions and decisions made by the cooperating agency. Although cooperating agencies provide input to the conclusions and recommendations presented in a draft EIS, the agencies may present their own conclusions and recommendations in any applicable Records of Decision.

The draft EIS addresses the potential environmental effects of the construction and operation of the following Project facilities:

Greene County, Pennsylvania

• acquisition of the existing non-jurisdictional Cygrymus Compressor Station and addition of two Taurus 70 turbines;

• approximately 0.5 mile of new 16-inch-diameter natural gas pipeline (H-327);

• approximately 0.5 mile of new 12-inch-diameter natural gas pipeline (H-328);

• deep anode groundbed and rectifier; and

• ancillary facilities, such as a valve yard, taps, and internal inspection device (e.g., pig launchers and receivers ³).

³ A “pig” is a tool that the pipeline company inserts into and pushes through the pipeline for cleaning, conducting internal inspections, or other purposes.

Wetzel County, West Virginia

• addition of one Mars 100 compressor at the existing Corona Compressor Station;

• approximately 3.7 miles of new 24-inch-diameter natural gas pipeline (H-326);

• approximately 129 feet of new 8-inch-diameter natural gas pipeline (H-329);

• approximately 0.7 mile of new 16-inch-diameter natural gas pipeline (H-330);

• approximately 0.09 mile of new 16-inch-diameter natural gas pipeline (H-330 Spur);

• approximately 160 feet of new 12-inch-diameter natural gas pipeline; and

• ancillary facilities, such as mainline valves, valve yards, measuring equipment, and pigging facilities.

Monroe County, Ohio

• addition of one Titan 130 compressor at the existing Plasma Compressor Station.

The Commission mailed a copy of the Notice of Availability of the draft EIS to federal, state, and local government representatives and agencies; elected officials; environmental and public interest groups; Native American tribes; potentially affected landowners and other interested individuals and groups; and newspapers and libraries in the Project area. The draft EIS is only available in electronic format. It may be viewed and downloaded from the FERC's website on the natural gas environmental documents page (https://www.ferc.gov/industries-data/natural-gas/environment/environmental-documents). In addition, the draft EIS may be accessed by using the eLibrary link on FERC's website. Click on the eLibrary link (https://elibrary.ferc.gov/eLibrary/search), select “General Search,” and enter the docket number in the “Docket Number” field, excluding the last three digits (i.e., CP22-44). Be sure to select an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on the draft EIS's disclosure and discussion of potential environmental effects, reasonable alternatives, and measures to avoid or lessen environmental impacts. To ensure consideration of comments on the proposal in the final EIS, it is important that the Commission receive your comments on or before 5:00 p.m. Eastern Time on November 21, 2022.

For your convenience, there are three methods you can use to submit your comments to the Commission. The Commission encourages electronic filing of comments and has staff available to assist you at (866) 208-3676 or FercOnlineSupport@ferc.gov. Please carefully follow these instructions so that your comments are properly recorded:

1. You can file your comments electronically using the eComment feature on the Commission's website (www.ferc.gov) under the link to FERC Online. This is an easy method for submitting brief, text-only comments on a project.

2. You can file your comments electronically by using the eFiling feature on the Commission's website (www.ferc.gov) under the link to FERC Online. With eFiling, you can provide comments in a variety of formats by attaching them as a file with your submission. New eFiling users must first create an account by clicking on “eRegister.” Please select “Comment on a Filing” as the filing type.

3. You can file a paper copy of your comments by mailing them to the Commission. Be sure to reference the Project docket number (CP22-44-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Any person seeking to become a party to the proceeding must file a motion to intervene pursuant to Rule 214 of the Commission's Rules of Practice and Procedures (18 Code of Federal Regulations 385.214). Motions to intervene are more fully described at https://www.ferc.gov/ferc-online/ferc-online/how-guides. Only intervenors have the right to seek rehearing or judicial review of the Commission's decision. The Commission grants intervenor status to affected landowners and others with environmental concerns upon showing good cause by stating that they have a clear and direct interest in this proceeding that no other party can adequately represent. Simply filing environmental comments will not give you intervenor status, but you do not need intervenor status to have your comments considered.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: September 30, 2022.
Kimberly D. Bose,
Secretary.

[FR Doc. 2022-21766 Filed 10-5-22; 8:45 am]

BILLING CODE 6717-01-P